FEDERAL COMMUNICATIONS COMMISSION

Public Information Collection Approved by Office of Management and Budget

August 28, 2001.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0987.

Expiration Date: 08/31/04.

Title: 911 Callback Capability.

Form No.: N/A.

Estimated Annual Burden: 404 burden hours annually, ½ hour per response; 807 responses per year.

Description: The proposed labeling requirements would serve to educate consumers as to the capabilities and limitations of their handsets thus avoiding confusion resulting in delay in responding to E911 calls.

Federal Communications Commission.
Magalie Roman Salas,
Secretary.

[FR Doc. 01-22181 Filed 9-4-01; 8:45 am]

BILLING CODE 6712-01-P